DEPARTMENT OF THE INTERIOR

Bureau of Land Management

[14X.LLAK942000.L54200000.FR0000.LVDIL14L0540; AA094269]

Notice of Application for a Recordable Disclaimer of Interest for Lands Underlying the Egegik River, Becharof Lake, and Ruth Lake and Outlet, Alaska

AGENCY: Bureau of Land Management, Interior.

ACTION: Notice.

SUMMARY: The State of Alaska (State) has filed an application with the Bureau of Land Management (BLM) for a Recordable Disclaimer of Interest (RDI) from the United States in those lands underlying the Egegik River, Becharof Lake, and Ruth Lake and Outlet in southwest Alaska. The State asserts that the Egegik River, Becharof Lake, and Ruth Lake and Outlet, were navigable and unreserved at the time of Alaska Statehood in 1959.

DATES: The BLM should receive all comments to this action on or before November 5, 2018.

ADDRESSES: You may submit comments by mail or email on the State's application for an RDI or on the BLM Draft “Summary Report on Federal Interest in Lands Underlying the Egegik River, Becharof Lake, and Ruth Lake and Outlet in Alaska” (Draft Summary Report). To file comments by mail, send to: RDI Program Manager (AK-942), Division of Lands and Cadastral, BLM Alaska State Office, 222 West 7th Avenue, #13, Anchorage, Alaska 99513. To submit comments by email, send to anichols@blm.gov.

Copies of the State's application, supporting evidence, the Draft Summary Report, and comments, including names and street addresses of commenters, will be available for public review at the BLM Alaska Public Information Center (Public Room), 222 West 8th Avenue, Anchorage, Alaska, during regular business hours 8 a.m. to 4 p.m., Monday through Friday, except holidays.

FOR FURTHER INFORMATION CONTACT: Angie Nichols, RDI Program Manager, 222 West 7th Avenue, #13, Anchorage, Alaska 99513; 907-271-3359; anichols@blm.gov; or visit the BLM RDI website at https://www.blm.gov/programs/lands-and-realty/regional-information/alaska/RDI/bristol-bay.

People who use a telecommunications device for the deaf (TDD) may call the Federal Relay System (FRS) at 1-800-877-8339 to contact the above individual during normal business hours. The FRS is available 24 hours a day, 7 days a week, to leave a message or a question with the above individual. You will receive a reply during normal business hours.

SUPPLEMENTARY INFORMATION: On Sept. 7, 2016, the State filed an application (AA-94269) for an RDI pursuant to Section 315 of the Federal Land Policy and Management Act of 1976 (FLPMA) and the regulations contained in 43 CFR subpart 1864 for the lands underlying the Egegik River, Becharof Lake, and Ruth Lake and Outlet. The State asserts that these waterbodies were navigable at the time of Alaska Statehood. As such, the State contends that ownership of the lands underlying this river system automatically passed from the United States to the State in 1959 at the time of Statehood under the Equal Footing Doctrine; the Submerged Lands Act of 1953; the Alaska Statehood Act; and other title navigability law. Section 315 of FLPMA authorizes the BLM to issue an RDI when it determines that a record interest of the United States in lands has terminated by law or is otherwise invalid, and a disclaimer will help remove a cloud on title to such lands.

The State's application is for an RDI for all submerged lands underlying the portions described below of the Egegik River, Becharof Lake, and Ruth Lake and Outlet. Specifically, these are Becharof Lake: All submerged lands and bed up to and including the ordinary high water lines of Becharof Lake upstream from its outlet within section 5, township 25 south, range 46 west, Seward Meridian, Alaska; Egegik River: All submerged lands and bed of the Egegik River lying between the ordinary high water lines of the left and right banks of the Egegik River, beginning at the outlet of Becharof Lake, downstream to the limit of tidal influence; Unnamed outlet Ruth Lake: All submerged lands up to and including the ordinary high water lines of Unnamed outlet of Ruth Lake upstream from its outlet at Becharof Lake within section 5, township 30 south, range 42 west, Seward Meridian, Alaska, upstream to Ruth Lake; and Ruth Lake: All submerged lands and bed up to and including the ordinary high water lines of Ruth Lake upstream from its outlet within section 9, township 30 south, range 42 west, Seward Meridian, Alaska.

The State listed the coverage area on the USGS 1:63,360 series topographic maps as follows: Naknek A-1 through A-3, Karluk C-6, D-6 and Ugashik C-1 and D-1, D-2, D-3. Over time, the precise location of the submerged lands described above may vary between townships due to the ambulatory nature of these water bodies.

An RDI is a legal document through which the BLM disclaims the United States' interest in, or ownership of, specified lands, but the disclaimer does not grant, convey, transfer, or renounce any title or interest in the lands, nor does it release any tax, judgment, or lien. This Notice of Application is to inform the public of the pending application and the State's supporting evidence, as well as to provide the opportunity to comment or provide additional information to the BLM.

The BLM will not make a final decision on the merits of the State's application before November 5, 2018. During this 90-day period, interested parties may comment on the State's application, AA-94269, and supporting evidence. Interested parties may also comment on the BLM's Draft Summary Report, which is available on the BLM's RDI website (see FOR FURTHER INFORMATION CONTACT above).

Copies of the State's application, supporting evidence, the Draft Summary Report, and comments, including names and street addresses of commenters, will be available for public review at the BLM Alaska Public Information Center (Public Room), 222 West 8th Avenue, Anchorage, Alaska, during regular business hours 8 a.m. to 4 p.m., Monday through Friday, except holidays. Before including your address, phone number, email address, or other personally identifiable information in your comment, you should be aware that your entire comment—including your personally identifiable information—may be made publicly available at any time. While you can ask the BLM in your comment to withhold your personally identifiable information from public review, we cannot guarantee that we will be able to do so.

If the BLM determines the State's evidence and any additional information the agency receives concerning the State's application is sufficient to reach a favorable determination, and neither the records nor a valid objection discloses a reason not to disclaim, the BLM may decide to approve the application for the RDI.

Authority: 43 CFR 1864.2.

Erika L. Reed,
Deputy State Director, Division of Lands and Cadastral, Alaska.

[FR Doc. 2018-16858 Filed 8-6-18; 8:45 am]

BILLING CODE 4310-JA-P